DEPARTMENT OF HEALTH AND HUMAN SERVICES

Food and Drug Administration

21 CFR Part 73

[Docket Nos. FDA-2011-C-0344 and FDA-2011-C-0463]

Listing of Color Additives Exempt From Certification; Reactive Blue 246 and Reactive Blue 247 Copolymers; Confirmation of Effective Date

Correction

In rule document 2013-15111, appearing on pages 37962-37963 in the issue of Tuesday, June 25, 2013, make the following correction:

On page 37962, in the section titled SUPPLEMENTARY INFORMATION, the first paragraph is corrected to read as set forth below:

In the Federal Register of April 1, 2013, we amended the color additive regulations in §§ 73.3100 and 73.3106 (21 CFR 73.3100 and 73.3106), respectively, to provide for the safe use of additional copolymers of 1,4-bis[(2-hydroxyethyl)amino]-9,10-anthracenedione bis(2-methyl-2-propenoic)ester (C.I. Reactive Blue 247) and additional copolymers of 1,4-bis[4-(2-methacryloxyethyl)phenylamino]anthraquinone (C.I. Reactive Blue 246), as color additives in contact lenses. We also corrected the nomenclature for Reactive Blue 247 by inserting “2-methyl” before “2-propenoic.”

[FR Doc. C1-2013-15111 Filed 7-15-13; 8:45 am]

BILLING CODE 1505-01-D